FEDERAL TRADE COMMISSION

Agency Information Collection Activities; Proposed Collection; Comment Request; Extension

AGENCY: Federal Trade Commission (“FTC” or “Commission”).

ACTION: Notice.

SUMMARY: The FTC has submitted to the Office of Management and Budget (“OMB”) for review under the Paperwork Reduction Act (“PRA”) information collection requirements contained in its Automotive Fuel Ratings, Certification and Posting Rule (“Fuel Rating Rule” or “Rule”). The FTC is seeking public comments on the proposal to extend through December 31, 2008 the current PRA clearance for information collection requirements contained in the regulations. That clearance expires on December 31, 2005.

DATES: Comments must be filed by December 19, 2005.

ADDRESSES: Interested parties are invited to submit written comments. Comments should refer to “Fuel Rating Rule: FTC File No. R811005” to facilitate the organization of comments. A comment filed in paper form should include this reference both in the text and on the envelope and should be mailed or delivered, with two complete copies, to the following address: Federal Trade Commission, Room H 135 (Annex J), 600 Pennsylvania Ave., NW., Washington, DC 20580. Because paper mail in the Washington area and at the Commission is subject to delay, please consider submitting your comments in electronic form, (in ASCII format, WordPerfect, or Microsoft Word) as part of or as an attachment to e-mail messages directed to the following e-mail box: <paperworkcomment@ftc.gov>. However, if the comment contains any material for which confidential treatment is requested, it must be filed in paper form, and the first page of the document must be clearly labeled “Confidential.” ¹

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

All comments should additionally be submitted to: Office of Management and Budget, Attention: Desk Officer for the Federal Trade Commission. Comments should be submitted via facsimile to (202) 395-6974 because U.S. Postal Mail is subject to lengthy delays due to heightened security precautions.

The FTC Act and other laws the Commission administers permit the collection of public comments to consider and use in this proceeding as appropriate. All timely and responsive public comments will be considered by the Commission and will be available to the public on the FTC website, to the extent practicable, at www.ftc.gov. As a matter of discretion, the FTC makes every effort to remove home contact information for individuals from the public comments it receives before placing those comments on the FTC Web site. More information, including routine uses permitted by the Privacy Act, may be found in the FTC's privacy policy at http://www.ftc.gov/ftc/privacy.htm.

FOR FURTHER INFORMATION CONTACT: Requests for additional information or copies of the proposed information requirements should be sent to Neil Blickman, Attorney, Division of Enforcement, Bureau of Consumer Protection, Federal Trade Commission, 600 Pennsylvania Ave., NW., Washington, DC 20580, (202) 326-3038.

SUPPLEMENTARY INFORMATION: On August 25, 2005, the FTC sought comment on the information collection requirements associated with the Fuel Rating Rule, 16 CFR Part 306 (OMB Control Number: 3084-0068). See 70 FR 49925. No comments were received. Pursuant to the OMB regulations that implement the PRA (5 CFR Part 1320), the FTC is providing this second opportunity for public comment while seeking OMB approval to extend the existing paperwork clearance for the Rule. All comments should be filed as prescribed in the ADDRESSES section above, and must be received on or before December 19, 2005.

The Fuel Rating Rule, 16 CFR Part 306 (OMB Control Number: 3084-0068), establishes standard procedures for determining, certifying, and disclosing the octane rating of automotive gasoline and the automotive fuel rating of alternative liquid automotive fuels, as required by the Petroleum Marketing Practices Act. 15 U.S.C. 2822(a)-(c). The Rule also requires refiners, producers, importers, distributors, and retailers to keep records showing how the ratings were determined, including delivery tickets or letters of certification.

Estimated annual hours burden: ² 40,000 total burden hours (16,000 recordkeeping hours + 24,000 disclosure hours).

² All numbers pertaining to hours and cost burden estimates have been rounded to the nearest thousand.

Recordkeeping: Based on industry sources, staff estimates that 195,000 fuel industry members each incur an average annual burden of approximately five minutes to ensure retention of relevant business records for the period required by the Rule, resulting in a total of 16,000 hours.

Disclosure: Staff estimates that affected industry members incur an average burden of approximately one hour to produce, distribute, and post octane rating labels. Because the labels are durable, only about one of every eight industry members (i.e., approximately 24,000 of 195,000 industry members) incur this burden each year, resulting in a total annual burden of 24,000 hours.

Estimated annual cost burden: $804,000 ($720,000 in labor costs and $84,000 in non-labor costs).

Labor costs: Staff estimates that the work associated with the Rule's recordkeeping and disclosure requirements is performed by skilled information and record clerks at an average rate of $18.00 per hour. Thus, the annual labor cost to respondents of complying with the recordkeeping and disclosure requirements of the Rule is estimated to be $720,000 ((16,000 hours + 24,000 hours) × $18.00 per hour).

Capital or other non-labor costs: $84,000.

Staff believes that there are no current start-up costs associated with the Rule. Because the Rule has been effective since 1979 for gasoline, and since 1993 for liquid alternative automotive fuels, industry members already have in place the capital equipment and other means necessary to comply with the Rule. Retailers (approximately 170,000 industry members), however, do incur the cost of procuring (and replacing) fuel dispenser labels to comply with the Rule. According to industry input, the price per label is about fifty cents. Industry estimates of the useful life of dispenser labels range from 6 to 10 years. The estimate is based on the bottom of that range, i.e., 6 years. Based on industry input, staff believes that the average retailer has six dispensers, all being obtained or replaced in the same year. Assuming that, in any given year, ⅙th of all retailers (28,000 retailers) will replace their dispenser labels, staff estimates total labeling cost to be $84,000 (28,000 × 6 × .50 ).

William Blumenthal,
General Counsel.

[FR Doc. 05-22848 Filed 11-17-05; 8:45 am]

BILLING CODE 6750-01-P